DEPARTMENT OF TRANSPORTATION

Federal Aviation Administration

14 CFR Part 39

[Docket No. FAA-2015-8129; Directorate Identifier 2014-NM-197-AD; Amendment 39-18573; AD 2016-13-09]

RIN 2120-AA64

Airworthiness Directives; Bombardier, Inc. Airplanes

AGENCY: Federal Aviation Administration (FAA), Department of Transportation (DOT).

ACTION: Final rule.

SUMMARY: We are adopting a new airworthiness directive (AD) for certain Bombardier, Inc. Model CL-600-2B16 (CL-604 Variant) airplanes. This AD was prompted by a determination that certain maintenance tasks for the horizontal stabilizer trim actuator (HSTA) are inadequate. This AD requires revising the maintenance or inspection program, as applicable, to incorporate new airworthiness limitations for the HSTA. We are issuing this AD to detect and correct premature wear and cracking of the HSTA, which could result in failure of the HSTA and consequent loss of control of the airplane.

DATES: This AD becomes effective August 16, 2016.

The Director of the Federal Register approved the incorporation by reference of certain publications listed in this AD as of August 16, 2016.

ADDRESSES: For service information identified in this final rule, contact Bombardier, Inc., 400 Côte-Vertu Road West, Dorval, Québec H4S 1Y9, Canada; Widebody Customer Response Center, toll-free telephone 1-866-538-1247, or direct dial telephone 1-514-855-2999; fax 1-514-855-7401; email ac.yul@aero.bombardier.com; Internet http://www.bombardier.com. You may view this referenced service information at the FAA, Transport Airplane Directorate, 1601 Lind Avenue SW., Renton, WA. For information on the availability of this material at the FAA, call 425-227-1221. It is also available on the Internet at http://www.regulations.gov by searching for and locating Docket No. FAA-2015-8129.

Examining the AD Docket

You may examine the AD docket on the Internet at http://www.regulations.gov by searching for and locating Docket No. FAA-2015-8129; or in person at the Docket Management Facility between 9 a.m. and 5 p.m., Monday through Friday, except Federal holidays. The AD docket contains this AD, the regulatory evaluation, any comments received, and other information. The street address for the Docket Operations office (telephone 800-647-5527) is in the ADDRESSES section.

FOR FURTHER INFORMATION CONTACT: Cesar Gomez, Aerospace Engineer, Airframe and Mechanical Systems Branch, ANE-171, FAA, New York Aircraft Certification Office, 1600 Stewart Avenue, Suite 410, Westbury, NY 11590; telephone 516-228-7318; fax 516-794-5531.

SUPPLEMENTARY INFORMATION:

Discussion

We issued a notice of proposed rulemaking (NPRM) to amend 14 CFR part 39 by adding an AD that would apply to certain Bombardier, Inc. Model CL-600-2B16 (CL-604 Variant) airplanes. The NPRM published in the Federal Register on January 4, 2016 (81 FR 32) (“the NPRM”). The NPRM was prompted by a determination that certain maintenance tasks for the HSTA are inadequate. The NPRM proposed to require revising the maintenance or inspection program, as applicable, to incorporate new airworthiness limitations for the HSTA. We are issuing this AD to detect and correct premature wear and cracking of the HSTA, which could result in failure of the HSTA and consequent loss of control of the airplane.

Transport Canada Civil Aviation (TCCA), which is the aviation authority for Canada, has issued Canadian Airworthiness Directive CF-2014-30, dated September 5, 2014 (referred to after this as the Mandatory Continuing Airworthiness Information, or “the MCAI”), to correct an unsafe condition for certain Bombardier, Inc. Model CL-600-2B16 (CL-604 Variant) airplanes. The MCAI states:

A revision has been made to the CL 604/605 Time Limits/Maintenance Checks (TLMC) manual, to introduce new tasks for the HSTA. Failure to comply with the TLMC tasks could lead to an unsafe condition.

This [Canadian] AD is issued to ensure that premature wear and cracking of the affected components are detected and corrected.

The unsafe condition is premature wear and cracking of the HSTA, which could result in failure of the HSTA and consequent loss of control of the airplane.

You may examine the MCAI in the AD docket on the Internet at http://www.regulations.gov by searching for and locating Docket No. FAA-2015-8129.

Comments

We gave the public the opportunity to participate in developing this AD. The following presents the comment received on the NPRM and the FAA's response to that comment.

Request To Change the Manufacturer's Contact Information

Bombardier Inc., asked that we change the contact information to include the telephone numbers and email address for the Widebody Customer Response Center. Bombardier Inc. provided the updated information.

We agree with the commenter. We have changed the contact information in this AD accordingly.

Conclusion

We reviewed the relevant data, considered the comment received, and determined that air safety and the public interest require adopting this AD with the change described previously and minor editorial changes. We have determined that these minor changes:

• Are consistent with the intent that was proposed in the NPRM for correcting the unsafe condition; and

• Do not add any additional burden upon the public than was already proposed in the NPRM.

We also determined that these changes will not increase the economic burden on any operator or increase the scope of this AD.

Related Service Information Under 1 CFR Part 51

Bombardier Inc. has issued the following service information, which describes procedures for revising the maintenance or inspection program to incorporate new airworthiness limitations for the HSTA.

• Section 5-10-40, Certification Maintenance Requirements, of Part 2, Airworthiness Limitations, of the Bombardier Challenger 604 Time Limits/Maintenance Checks Manual, Revision 22, dated July 11, 2014.

• Section 5-10-40, Certification Maintenance Requirements, of Part 2, Airworthiness Limitations, of the Bombardier Challenger 605 Time Limits/Maintenance Checks Manual, Revision 10, dated July 11, 2014.

This service information is reasonably available because the interested parties have access to it through their normal course of business or by the means identified in the ADDRESSES section.

Costs of Compliance

We estimate that this AD affects 78 airplanes of U.S. registry.

We also estimate that it takes about 1 work-hour per product to comply with the basic requirements of this AD. The average labor rate is $85 per work-hour. Based on these figures, we estimate the cost of this AD on U.S. operators to be $6,630, or $85 per product.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify that this AD:

1. Is not a “significant regulatory action” under Executive Order 12866;

2. Is not a “significant rule” under the DOT Regulatory Policies and Procedures (44 FR 11034, February 26, 1979);

3. Will not affect intrastate aviation in Alaska; and

4. Will not have a significant economic impact, positive or negative, on a substantial number of small entities under the criteria of the Regulatory Flexibility Act.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

2016-13-09 Bombardier, Inc.: Amendment 39-18573. Docket No. FAA-2015-8129; Directorate Identifier 2014-NM-197-AD.

(a) Effective Date

This AD becomes effective August 16, 2016.

(b) Affected ADs

None.

(c) Applicability

This AD applies to Bombardier, Inc. Model CL-600-2B16 (CL-604 Variant) airplanes, certificated in any category, serial numbers (S/Ns) 5301 through 5665 inclusive, and 5701 through 5962 inclusive.

(d) Subject

Air Transport Association (ATA) of America Code 27, Flight Controls.

(e) Reason

This AD was prompted by a determination that certain maintenance tasks for the horizontal stabilizer trim actuator (HSTA) are inadequate. We are issuing this AD to detect and correct premature wear and cracking of the HSTA, which could result in failure of the HSTA and consequent loss of control of the airplane.

(f) Compliance

Comply with this AD within the compliance times specified, unless already done.

(g) Maintenance or Inspection Program Revision

Within 30 days after the effective date of this AD: Revise the maintenance or inspection program, as applicable, to incorporate Task 27-42-01-109, Restoration (Overhaul) of the Horizontal Stabilizer Trim Actuator, Part No. 604-92305-7 and Subs (Vendor Part No. 8454-3 and Subs); and Task 27-42-01-111, Detailed Inspection of the Horizontal Trim Actuator (HSTA) Secondary Load Path Indicator, Part No. 604-92305-7 and Subs (Vendor Part No. 8454-3 and Subs); of the applicable document identified in paragraph (g)(1) or (g)(2) of this AD.

(1) For Model CL-600-2B16 (CL-604 Variant) airplanes, serial numbers 5301 through 5665 inclusive: Section 5-10-40, Certification Maintenance Requirements, of Part 2, Airworthiness Limitations, of the Bombardier Challenger 604 Time Limits/Maintenance Checks Manual, Revision 22, dated July 11, 2014.

(2) For Model CL-600-2B16 (CL-604 Variant) airplanes, serial numbers 5701 through 5962 inclusive: Section 5-10-40, Certification Maintenance Requirements, of Part 2, Airworthiness Limitations, of the Bombardier Challenger 605 Time Limits/Maintenance Checks Manual, Revision 10, dated July 11, 2014.

(h) No Alternative Actions or Intervals

After the maintenance or inspection program has been revised, as required by paragraph (g) of this AD, no alternative actions (e.g., inspections) or intervals may be used unless the actions or intervals are approved as an alternative method of compliance (AMOC) in accordance with the procedures specified in paragraph (i)(1) of this AD.

(i) Other FAA AD Provisions

The following provisions also apply to this AD:

(1) Alternative Methods of Compliance (AMOCs): The Manager, New York Aircraft Certification Office (ACO), ANE-170, FAA, has the authority to approve AMOCs for this AD, if requested using the procedures found in 14 CFR 39.19. In accordance with 14 CFR 39.19, send your request to your principal inspector or local Flight Standards District Office, as appropriate. If sending information directly to the ACO, send it to ATTN: Program Manager, Continuing Operational Safety, FAA, New York ACO, 1600 Stewart Avenue, Suite 410, Westbury, NY 11590; telephone 516-228-7300; fax 516-794-5531. Before using any approved AMOC, notify your appropriate principal inspector, or lacking a principal inspector, the manager of the local flight standards district office/certificate holding district office. The AMOC approval letter must specifically reference this AD.

(2) Contacting the Manufacturer: For any requirement in this AD to obtain corrective actions from a manufacturer, the action must be accomplished using a method approved by the Manager, New York ACO, ANE-170, FAA; or Transport Canada Civil Aviation (TCCA); or Bombardier, Inc.'s TCCA Design Approval Organization (DAO). If approved by the DAO, the approval must include the DAO-authorized signature.

(j) Related Information

Refer to Mandatory Continuing Airworthiness Information (MCAI) Canadian Airworthiness Directive CF-2014-30, dated September 5, 2014, for related information. This MCAI may be found in the AD docket on the Internet at http://www.regulations.gov by searching for and locating Docket No. FAA-2015-8129.

(k) Material Incorporated by Reference

(1) The Director of the Federal Register approved the incorporation by reference (IBR) of the service information listed in this paragraph under 5 U.S.C. 552(a) and 1 CFR part 51.

(2) You must use this service information as applicable to do the actions required by this AD, unless this AD specifies otherwise.

(i) Section 5-10-40, Certification Maintenance Requirements, of Part 2, Airworthiness Limitations, of the Bombardier Challenger 604 Time Limits/Maintenance Checks Manual, Revision 22, dated July 11, 2014.

(ii) Section 5-10-40, Certification Maintenance Requirements, of Part 2, Airworthiness Limitations, of the Bombardier Challenger 605 Time Limits/Maintenance Checks Manual, Revision 10, dated July 11, 2014.

(3) For service information identified in this AD, contact Bombardier, Inc., 400 Côte-Vertu Road West, Dorval, Québec H4S 1Y9, Canada; Widebody Customer Response Center, toll-free telephone 1-866-538-1247, or direct dial telephone 1-514-855-2999; fax 1-514-855-7401; email ac.yul@aero.bombardier.com; Internet http://www.bombardier.com.

(4) You may view this service information at the FAA, Transport Airplane Directorate, 1601 Lind Avenue SW., Renton, WA. For information on the availability of this material at the FAA, call 425-227-1221.

(5) You may view this service information that is incorporated by reference at the National Archives and Records Administration (NARA). For information on the availability of this material at NARA, call 202-741-6030, or go to: http://www.archives.gov/federal-register/cfr/ibr-locations.html.

Issued in Renton, Washington, on June 21, 2016.
Dorr M. Anderson,
Acting Manager, Transport Airplane Directorate, Aircraft Certification Service.

[FR Doc. 2016-15354 Filed 7-11-16; 8:45 am]

BILLING CODE 4910-13-P